NUCLEAR REGULATORY COMMISSION

10 CFR Part 72

[NRC-2023-0050]

RIN 3150-AK93

List of Approved Spent Fuel Storage Casks: TN Americas LLC, NUHOMS® EOS Dry Spent Fuel Storage System Certificate of Compliance No. 1042, Amendment No. 3

AGENCY: Nuclear Regulatory Commission.

ACTION: Direct final rule; confirmation of effective date.

SUMMARY: The U.S. Nuclear Regulatory Commission (NRC) is confirming the effective date of July 17, 2023, for the direct final rule that was published in the Federal Register on May 2, 2023. The direct final rule amended the TN Americas LLC, NUHOMS® EOS Dry Spent Fuel Storage System listing within the “List of approved spent fuel storage casks” to include Amendment No. 3 to Certificate of Compliance No. 1042.

DATES: The effective date of July 17, 2023, for the direct final rule published May 2, 2023 (88 FR 27397), is confirmed.

ADDRESSES: Please refer to Docket ID NRC-2023-0050 when contacting the NRC about the availability of information for this action. You may obtain publicly available information related to this action by any of the following methods:

• Federal Rulemaking Website: Go to https://www.regulations.gov and search for Docket ID NRC-2023-0050. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Amendment No. 3 of certificate of compliance No. 1042 and associated changes to the technical specifications, and safety evaluation report can also be viewed in ADAMS under Package Accession No. ML23137A409.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. eastern time, Monday through Friday, except Federal holidays.

FOR FURTHER INFORMATION CONTACT: Caylee Kenny, Office of Nuclear Material Safety and Safeguards, U.S. Nuclear Regulatory Commission, Washington, DC 20555-0001; telephone: 301-415-7150, email: Caylee.Kenny@nrc.gov.

SUPPLEMENTARY INFORMATION: On May 2, 2023 (88 FR 27397), the NRC published a direct final rule amending its regulations in part 72 of title 10 of the Code of Federal Regulations to revise the TN Americas LLC, NUHOMS® EOS Dry Spent Fuel Storage System listing within the “List of approved spent fuel storage casks” to include Amendment No. 3 to Certificate of Compliance No. 1042.

Amendment No. 3 revises the certificate of compliance to: add three new heat load zone configurations (HLZCs) for the EOS-89BTH Dry Shielded Canister (DSC) with increased heat load up to 1.7 kW per fuel assembly, which reduces the minimum cooling time to 1 year; add a variable-lead thickness EOS-TC125 for transfer with the EOS-89BTH DSC; add ATRIUM 11 fuel as an allowable content in the EOS-89BTH DSC and rerun the limiting GNF2 and ABB-10-C cases to reduce the statistical uncertainties and increase the enrichment limits; update the criticality evaluation to allow short-loading the EOS-89BTH DSC with less than 89 fuel assemblies to increase the enrichment limits; revise the technical specifications (TS) to allow for phased array automated ultrasonic testing and to utilize a single pass high amperage gas tungsten arc weld or multipass gas tungsten arc weld on the outer top cover plate; revise the TS to reduce EOS-37PTH HLZC 1 and 2 time limit for transfer to eight hours; incorporate a method to determine new loading patterns based on the maximum allowable heat load per DSC and per location specified in the TS and move all HLZCs and time limits for transfer for the EOS-89BTH DSC transferred in the EOS-TC125 from the technical specifications to Updated Final Safety Analysis Report (UFSAR) Chapter 2; waive the fabrication pressure test requirement for the single bottom forging EOS-DSCs; and make minor changes to TS and UFSAR for consistency among DSC types and terminology clarification. Amendment No. 3 also revises the certificate of compliance with three scope changes including: UFSAR revisions associated with transfer cask lifting heights and consideration of severe weather; UFSAR revisions associated with maintaining water in the annulus; and design changes to the Matrix Loading Crane.

In the direct final rule, the NRC stated that if no significant adverse comments were received, the direct final rule would become effective on July 17, 2023. The NRC did not receive any comments on the direct final rule. Therefore, this direct final rule will become effective as scheduled.

Dated: June 9, 2023.
For the Nuclear Regulatory Commission.
Krupskaya T. Castellon,
Acting Chief, Regulatory Analysis and Rulemaking Support Branch, Division of Rulemaking, Environmental, and Financial Support Office of Nuclear Material Safety and Safeguards.

[FR Doc. 2023-12709 Filed 6-14-23; 8:45 am]

BILLING CODE 7590-01-P